EQUAL EMPLOYMENT OPPORTUNITY COMMISSION

Sunshine Act Meeting

Federal Register Citation of Previous Announcement: 70 FR 39774; Monday, July 11, 2005.

Previously Announced Time and Date of Meeting: Monday, July 18, 2005, 9 a.m. eastern time.

Change in the meeting:

Open Session:

Item No. 2. FEPA Designations for Springfield, Illinois Department of Community Relations & Reading, Pennsylvania Human Relations Commission has been removed from the Agenda.

Item No. 3. Certification of Eight FEP Agencies has been removed from the Agenda.

CONTACT FOR FURTHER INFORMATION: Stephen Llewellyn, Acting Executive Officer, on (202) 663-4070.

Dated: July 14, 2005.
Stephen Llewellyn,
Acting Executive Officer, Executive Secretariat.

[FR Doc. 05-14202 Filed 7-14-05; 4:0 pm]

BILLING CODE 6750-06-M